DEPARTMENT OF COMMERCE

International Trade Administration

[A-533-903]

Raw Honey From India: Preliminary Results of Antidumping Duty Administrative Review and Preliminary Partial Rescission of Antidumping Duty Administrative Review; 2021-2023

AGENCY: Enforcement and Compliance, International Trade Administration, Department of Commerce.

SUMMARY: The U.S. Department of Commerce (Commerce) is conducting an administrative review of the antidumping duty (AD) order on raw honey from India for the period of review (POR) November 23, 2021, through May 31, 2023. Commerce preliminarily finds that sales of subject merchandise were made at prices below normal value (NV) during the POR. We are also preliminarily rescinding the review with respect to 14 companies that had no entries of the subject merchandise during the POR. We invite interested parties to comment on these preliminary results.

DATES: Applicable July 9, 2024.

FOR FURTHER INFORMATION CONTACT: Brittany Bauer or Javier Barrientos, AD/CVD Operations, Office V, Enforcement and Compliance, International Trade Administration, U.S. Department of Commerce, 1401 Constitution Avenue NW, Washington, DC 20230; telephone: (202) 482-3860 or (202) 482-2243, respectively.

SUPPLEMENTARY INFORMATION:

Background

On August 3, 2023, Commerce initiated an administrative review of the AD order on raw honey from India,¹ in accordance with section 751(a) of the Tariff Act of 1930, as amended (the Act). This review covers 30 producers/exporters of subject merchandise. Commerce selected two mandatory respondents for individual examination, Allied Natural Product (Allied) and Indocan Honey Private Limited (Indocan).

¹ See Initiation of Antidumping and Countervailing Duty Administrative Reviews, 88 FR 51271 (August 3, 2023) (Initiation Notice); see also Raw Honey from Argentina, Brazil, India, and the Socialist Republic of Vietnam: Antidumping Duty Orders, 87 FR 35501 (June 10, 2022) (Order).

On February 15, 2024, Commerce extended the deadline for these preliminary results until June 28, 2024.² For a complete description of the events that followed the initiation of this review, see the Preliminary Decision Memorandum.³

² See Memorandum, “Extension of Deadline for Preliminary Results of Antidumping Duty Administrative Review,” dated February 15, 2024.

³ See Memorandum, “Decision Memorandum for the Preliminary Results of the Administrative Review of the Antidumping Duty Order on Raw Honey from India; 2021-2023,” dated concurrently with, and hereby adopted by, this notice (Preliminary Decision Memorandum).

Scope of the Order

The merchandise subject to the Order is raw honey from India. For a full description of the scope, see the Preliminary Decision Memorandum.

Methodology

Commerce is conducting this review in accordance with sections 751(a)(1)(B) and (2) of the Act. We calculated export price and constructed export price in accordance with section 772 of the Act. We calculated NV in accordance with section 773 of the Act.

For a full description of the methodology underlying these preliminary results, see the Preliminary Decision Memorandum. A list of the topics discussed in the Preliminary Decision Memorandum is included as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Rescission of Administrative Review, in Part

Pursuant to 19 CFR 351.213(d)(3), when there are no reviewable entries of subject merchandise during the POR subject to the AD order for which liquidation is suspended, Commerce may rescind an administrative review, in whole or only with respect to a particular exporter or producer.⁴ At the end of the administrative review, any suspended entries are liquidated at the assessment rate computed for the review period.⁵ Therefore, for an administrative review to be conducted, there must be a reviewable, suspended entry to be liquidated at the newly calculated assessment rate.

⁴ See, e.g., Forged Steel Fittings from Taiwan: Rescission of Antidumping Duty Administrative Review; 2018-2019, 85 FR 71317, 71318 (November 9, 2020); see also Certain Circular Welded Non-Alloy Steel Pipe from Mexico: Rescission of Antidumping Duty Administrative Review; 2016-2017, 83 FR 54084 (October 26, 2018).

⁵ See 19 CFR 351.212(b)(1).

On August 9, 2023, we released U.S. import data from U.S. Customs and Border Protection (CBP) for the purpose of respondent selection.⁶ These data showed that 14 companies for which Commerce initiated an administrative review had no reviewable, suspended entries of subject merchandise.⁷ Accordingly, pursuant to 19 CFR 351.213(d)(3) and (d)(4), we are preliminarily rescinding this administrative review with respect to the 14 companies listed in Appendix II to this notice that had no reviewable, suspended entries of subject merchandise during the POR. Absent evidence of a shipment on the record from the 14 companies listed in Appendix II during the POR, Commerce intends to rescind its review of these companies, pursuant to 19 CFR 351.213(d)(3).

⁶ See Memorandum, “Placing U.S. Customs and Border Protection Data on the Record,” dated August 9, 2023.

⁷ Id.

Rate for Companies Not Individually Examined

The Act and Commerce's regulations do not address the establishment of a weighted-average dumping margin to be assigned to companies not selected for individual examination when Commerce limits its examination in an administrative review pursuant to section 777A(c)(2) of the Act. Generally, Commerce looks to section 735(c)(5) of the Act, which provides instructions for calculating the all-others rate in an investigation, for guidance when determining the weighted-average dumping margin for companies which were not selected for individual examination in an administrative review. Under section 735(c)(5)(A) of the Act, the all-others rate is normally “an amount equal to the weighted average of the estimated weighted average dumping margins established for exporters and producers individually investigated, excluding any zero and de minimis margins, and any margins determined entirely {on the basis of facts available}.”

We preliminarily calculated a de minimis dumping margin for Allied and an above de minimis margin for Indocan. Accordingly, we have preliminarily assigned to the non-selected companies a rate of 0.59 percent, i.e., the rate for Indocan, because that is the only rate that is not zero, de minimis, or based entirely on facts available.

Preliminary Results of the Review

We preliminarily determine that the following weighted-average dumping margins exist for the period November 23, 2021, through May 31, 2023:

⁸ The exporters or producers not selected for individual examination are listed in Appendix III.

Exporter/producer | Weighted- average dumping margin (percent)
Allied Natural Product | 0.00
Indocan Honey Private Limited | 0.59
Companies Not Selected for Individual Review ⁸ | 0.59

Disclosure and Public Comment

We intend to disclose the calculations performed to parties within five days after public announcement of the preliminary results or, if there is no public announcement, within five days of the date of publication of this notice.⁹ Interested parties may submit case briefs no later than 30 days after the date of publication of this notice.¹⁰ Rebuttal briefs, limited to issues raised in the case briefs, may be filed not later than five days after the date for filing case briefs.¹¹ Interested parties who submit case or rebuttal briefs in this proceeding must submit: (1) a table of contents listing each issue; and (2) a table of authorities.¹²

⁹ See 19 CFR 351.224(b).

¹⁰ See 19 CFR 351.309(c)(1)(ii); see also 19 CFR 351.303 (for general filing requirements).

¹¹ See 19 CFR 351.309(d); see also Administrative Protective Order, Service, and Other Procedures in Antidumping and Countervailing Duty Proceedings, 88 FR 67069, 67077 (September 29, 2023).

¹² See 19 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.¹³ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁴

¹³ We use the term “issue” here to describe an argument that Commerce would normally address in a comment of the Issues and Decision Memorandum.

¹⁴ See Administrative Protective Order, Service, and Other Procedures in Antidumping and Countervailing Duty Proceedings; Final Rule, 88 FR 67069 (September 29, 2023).

Interested parties who wish to request a hearing must submit a written request to the Assistant Secretary for Enforcement and Compliance, filed electronically via ACCESS.¹⁵ Requests should contain: (1) the party's name, address, and telephone number; (2) the number of participants and whether any participant is a foreign national; and (3) a list of issues to be discussed. Issues raised in the hearing will be limited to those raised in case and rebuttal briefs.¹⁶ If a request for a hearing is made, Commerce intends to hold the hearing at a time and date to be determined. A hearing request must be filed electronically using ACCESS and received in its entirety by 5:00 p.m. Eastern Time within 30 days after the publication of this notice.

¹⁵ See 19 CFR 351.310(c).

¹⁶ See 19 CFR 351.310.

Assessment Rates

Upon completion of the final results of this administrative review, Commerce shall determine, and CBP shall assess, antidumping duties on all appropriate entries covered by this review.¹⁷ Pursuant to 19 CFR 351.212(b)(1), if the weighted-average dumping margin for Allied or Indocan is not zero or de minimis (i.e., less than 0.50 percent) in the final results of this review, we will calculate importer-specific assessment rates based on the ratio of the total amount of dumping calculated for the importer's examined sales to the total entered value of those same sales. If either respondent's weighted-average dumping margin is zero or de minimis in the final results of review, or if an importer-specific assessment rate is zero or de minimis, Commerce will instruct CBP to liquidate appropriate entries without regard to antidumping duties. The final results of this review shall be the basis for the assessment of antidumping duties on entries of merchandise covered by this review, and for future deposits of estimated duties, where applicable.¹⁸

¹⁷ See 19 CFR 351.212(b).

¹⁸ See section 751(a)(2)(C) of the Act.

In accordance with Commerce's “automatic assessment” practice, for entries of subject merchandise during the POR produced by Allied or Indocan for which the company did not know that the merchandise was destined for the United States, we will instruct CBP to liquidate those entries at the all-others rate established in the original less-than-fair-value (LTFV) investigation (i.e., 5.87 percent) ¹⁹ if there is no rate for the intermediate company(ies) involved in the transaction.²⁰

¹⁹ See Order, 87 FR at 35503.

²⁰ For a full discussion of this practice, see Antidumping and Countervailing Duty Proceedings: Assessment of Antidumping Duties, 68 FR 23954 (May 6, 2003).

For the companies listed in Appendix III which were not selected for individual examination, we will assign an assessment rate based on the review-specific rate, calculated as noted in the “Rate for Companies Not Individually Examined” section, above. The final results of this review shall be the basis for the assessment of antidumping duties on entries of merchandise covered by the final results of this review and for future deposits of estimated duties, where applicable.²¹

²¹ See section 751(a)(2)(C) of the Act.

If, in the final results, we continue to find that the administrative review for the companies listed in Appendix II should be rescinded, we will instruct CBP to assess antidumping duties on any suspended entries that entered under the CBP case numbers of those companies (i.e., at those exporters' rates) at a rate equal to the cash deposit of estimated antidumping duties required at the time of entry, or withdrawal from warehouse, for consumption, during the POR.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the companies listed above will be equal to the weighted-average dumping margins established in the final results of this review, except if the rate is less than 0.50 percent and, therefore, de minimis within the meaning of 19 CFR 351.106(c)(1), in which case the cash deposit rate will be zero; (2) for merchandise exported by a company not covered in this review, but covered in a prior segment of the proceeding, the cash deposit rate will be the company-specific rate published for the most recently-completed segment in which it was reviewed; (3) if the exporter is not a firm covered in this review or in the original LTFV investigation, but the producer is, then the cash deposit rate will be the rate established for the most recently-completed segment of this proceeding for the producer of the merchandise; and (4) the cash deposit rate for all other producers or exporters will continue to be 5.87 percent, the all-others rate established in the LTFV investigation.²² These cash deposit requirements, when imposed, shall remain in effect until further notice.

²² See Order, 81 FR at 11176.

Final Results of Review

Unless otherwise extended, Commerce intends to issue the final results of this administrative review, including the results of its analysis of the issues raised in any written briefs, no later than 120 days after the date of publication of this notice, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

Commerce is issuing and publishing these preliminary results in accordance with sections 751(a)(1) and 777(i) of the Act, and 19 CFR 351.213 and 19 CFR 351.221(b)(4).

Dated: June 28, 2024.
Ryan Majerus,
Deputy Assistant Secretary for Policy and Negotiations, performing the non-exclusive functions and duties of the Assistant Secretary for Enforcement and Compliance.

Appendix I—List of Topics Discussed in the Preliminary Decision Memorandum

I. Summary

II. Background

III. Scope of the Order

IV. Preliminary Partial Rescission of Administrative Review

V. Discussion of the Methodology

VI. Currency Conversion

VII. Recommendation

Appendix II—Companies for Which We Are Preliminarily Rescinding the Administrative Review

1. AA Food Factory

2. Alpro

3. Aone Enterprises

4. Apl Logistics

5. Bee Hive Farms

6. Dabur India Limited

7. Ess Pee Quality Products

8. Infinator Pvt., Ltd.

9. Natural Agro Foods

10. NYSA Agro Foods

11. Shan Organics

12. Sunlite Organic

13. UTMT

14. Vedic Systems

Appendix III—Companies Not Selected for Individual Examination

1. Ambrosia Natural Products (India) Private Limited/Ambrosia Enterprise/Sunlite India Agro Producer Co., Ltd.

2. Apis India Limited

3. Brij Honey Pvt., Ltd.

4. Ganpati Natural Products

5. GMC Natural Product

6. Hi Tech Natural Products India Ltd.

7. Kejriwal Bee Care India Private Limited

8. KK Natural Food Industries LLP

9. Pearlcot Enterprises

10. Queenbee Foods Pvt. Ltd.

11. Salt Range Foods Pvt. Ltd.

12. Shakti Api Foods Private Limited ²³

²³ We also initiated this review on “Shakti Apifoods Pvt Ltd,” which we are preliminarily considering to be the same company. See Initiation Notice.

13. Shiv Apiaries

14. Yieppie Internationals

[FR Doc. 2024-14988 Filed 7-8-24; 8:45 am]

BILLING CODE 3510-DS-P